DEPARTMENT OF ENERGY

Federal Energy Regulatory Commission

Combined Notice of Filings #1

Take notice that the Commission received the following electric rate filings:

Docket Numbers: ER10-2253-009.

Applicants: Astoria Energy LLC.

Description: Notice of Non-material Change in Status of Astoria Energy LLC.

Filed Date: 11/27/13.

Accession Number: 20131127-5056.

Comments Due: 5 p.m. ET 12/18/13.

Docket Numbers: ER11-2447-001.

Applicants: Pacific Northwest Generating Cooperative, Inc.

Description: Notice of change in status of Pacific Northwest Generating Cooperative, Inc.

Filed Date: 11/26/13.

Accession Number: 20131126-5189.

Comments Due: 5 p.m. ET 12/17/13.

Docket Numbers: ER14-97-000.

Applicants: Midcontinent Independent System Operator, Inc.

Description: Supplement to October 15, 2013 Midcontinent Independent System Operator, Inc. tariff filing.

Filed Date: 11/25/13.

Accession Number: 20131125-5128.

Comments Due: 5 p.m. ET 12/9/13.

Docket Numbers: ER14-116-001.

Applicants: American Electric Power Service Corporation, Ohio Power Company, AEP Ohio Transmission Company, Inc., PJM Interconnection, L.L.C.

Description: AEP submits an amendment to the 39th Revised Service Agmt No. 1336 in ER14-116 to be effective 9/19/2013.

Filed Date: 11/26/13.

Accession Number: 20131126-5163.

Comments Due: 5 p.m. ET 12/17/13.

Docket Numbers: ER14-161-001.

Applicants: American Electric Power Service Corporation, AEP Indiana Michigan Transmission Company, Indiana Michigan Power Company, Wabash Valley Power Association, Inc., PJM Interconnection, L.L.C.

Description: AEP submits an Amendment to the 10th Revised ILDSA-PJM SA No. 1262 in ER14-161 to be effective 4/11/2013.

Filed Date: 11/26/13.

Accession Number: 20131126-5176.

Comments Due: 5 p.m. ET 12/17/13.

Docket Numbers: ER14-172-000.

Applicants: ISO New England Inc.

Description: ISO New England Inc. submits Supplement to Conforming Filing to be effective N/A.

Filed Date: 11/27/13.

Accession Number: 20131127-5083.

Comments Due: 5 p.m. ET 12/18/13.

Docket Numbers: ER14-463-000.

Applicants: ISO New England Inc.

Description: Exigent Circumstances Filing of Revisions to FCM Rules to be effective 1/24/2014.

Filed Date: 11/25/13.

Accession Number: 20131125-5196.

Comments Due: 5 p.m. ET 12/16/13.

Docket Numbers: ER14-474-000.

Applicants: Sempra Generation.

Description: Sempra Generation LLC Notice of Succession and MBR Tariff to be effective 11/27/2013.

Filed Date: 11/26/13.

Accession Number: 20131126-5115.

Comments Due: 5 p.m. ET 12/17/13.

Docket Numbers: ER14-475-000.

Applicants: New York Independent System Operator, Inc., Rochester Gas and Electric Corporation

Description: LGIA between RG&E and Allegany Generator, SA No. 2036 to be effective 11/1/2013.

Filed Date: 11/26/13.

Accession Number: 20131126-5125.

Comments Due: 5 p.m. ET 12/17/13.

Docket Numbers: ER14-476-000.

Applicants: Portsmouth Genco, LLC.

Description: 2nd Rev MBR to be effective 11/27/2013.

Filed Date: 11/26/13.

Accession Number: 20131126-5131.

Comments Due: 5 p.m. ET 12/17/13.

Docket Numbers: ER14-477-000.

Applicants: Red Oak Power, LLC.

Description: 2nd Rev MBR to be effective 11/27/2013.

Filed Date: 11/26/13.

Accession Number: 20131126-5132.

Comments Due: 5 p.m. ET 12/17/13.

Docket Numbers: ER14-478-000.

Applicants: James River Genco, LLC.

Description: 2nd Revised MBR to be effective 11/27/2013.

Filed Date: 11/26/13.

Accession Number: 20131126-5148.

Comments Due: 5 p.m. ET 12/17/13.

Docket Numbers: ER14-479-000.

Applicants: Great Bay Energy V, LLC.

Description: Baseline new to be effective 12/1/2013.

Filed Date: 11/26/13.

Accession Number: 20131126-5150.

Comments Due: 5 p.m. ET 12/17/13.

Docket Numbers: ER14-480-000.

Applicants: California Independent System Operator Corporation.

Description: 2013-11-26_Order764MarketChanges to be effective 4/1/2014.

Filed Date: 11/26/13.

Accession Number: 20131126-5175.

Comments Due: 5 p.m. ET 12/17/13.

Docket Numbers: ER14-481-000.

Applicants: Duke Energy Carolinas, LLC.

Description: Smoky Mountain IA Filing to be effective 11/1/2013.

Filed Date: 11/27/13.

Accession Number: 20131127-5002.

Comments Due: 5 p.m. ET 12/18/13.

Docket Numbers: ER14-482-000.

Applicants: DTE Electric Company.

Description: DTE Electric Company submits Revised Wholesale Distribution Agreements to be effective 1/1/2014.

Filed Date: 11/27/13.

Accession Number: 20131127-5040.

Comments Due: 5 p.m. ET 12/18/13.

Docket Numbers: ER14-483-000.

Applicants: Niagara Mohawk Power Corporation.

Description: Notice of Cancellation of Grandfathered Network Integration Transmission Service Agreement No. 118 of Niagara Mohawk Power Corporation.

Filed Date: 11/26/13.

Accession Number: 20131126-5187.

Comments Due: 5 p.m. ET 12/17/13.

Docket Numbers: ER14-484-000.

Applicants: Niagara Mohawk Power Corporation.

Description: Notice of Cancellation of Grandfathered Network Integration Transmission Service Agreement No. 120 of Niagara Mohawk Power Corporation.

Filed Date: 11/26/13.

Accession Number: 20131126-5191.

Comments Due: 5 p.m. ET 12/17/13.

Docket Numbers: ER14-485-000.

Applicants: Tucson Electric Power Company.

Description: Tucson Electric Power Company submits TEP Order No. 784 Compliance Filing to be effective 1/27/2014.

Filed Date: 11/27/13

Accession Number: 20131127-5065.

Comments Due: 5 p.m. ET 12/18/13.

Docket Numbers: ER14-486-000.

Applicants: UNS Electric, Inc.

Description: UNS Electric, Inc. submits UNSE Order No. 784 Compliance Filing to be effective 1/27/2014.

Filed Date: 11/27/13.

Accession Number: 20131127-5064.

Comments Due: 5 p.m. ET 12/18/13.

Docket Numbers: ER14-487-000.

Applicants: ISO New England Inc., New England Power Pool Participants Committee.

Description: ISO New England Inc. submits Revisions to FA for Non-Commercial Capacity in the FCM to be effective 3/28/2014.

Filed Date: 11/27/13.

Accession Number: 20131127-5066.

Comments Due: 5 p.m. ET 12/18/13.

Docket Numbers: ER14-488-000.

Applicants: KATBRO LLC.

Description: Katbro LLC submits notice of cancellation of its market-based rate tariff, effective 9/30/13.

Filed Date: 11/26/13.

Accession Number: 20131126-0013.

Comments Due: 5 p.m. ET 12/17/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 27, 2013.
Nathaniel J. Davis, Sr.,
Deputy Secretary.

[FR Doc. 2013-29199 Filed 12-6-13; 8:45 am]

BILLING CODE 6717-01-P